DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Application for Certification and Recertification as a Federally Qualified Health Center (FQHC) Look-Alike (OMB No. 0915-0142): Revision

The Health Resources and Services Administration (HRSA) revised the application guide used by organizations applying for certification or recertificaion as a Federally Qualified Health Center (FQHC) Look-Alike for purposes of cost-based reimbursement under the Medicaid and Medicare programs. The guide's revision will reflect legislative, policy, and technical changes since October 1999, the issuance date of the last guidance. The revisions include reference to the Medicare, Medicaid and State Children's Health Insurance Program Benefits Improvement and Protection Act (BIPA) of 2000, section 702, the Medicaid prospective payment system for FQHCs, the elimination of waiver allowances under the Medicaid FQHC benefit and the interpretation and implementation of policy documents issued by HRSA.

The estimated burden is as follows:

Type of report | Number of respondents | Responses per respondent | Hours per response | Total burden hours
Application | 25 | 1 | 100 | 2,500
Recertification | 75 | 1 | 20 | 1,500
Total | 100 |  |  | 4,000

Written comments and recommendations concerning the proposed information collection should be sent within 30 days of this notice to: John Morrall, Human Resources and Housing Branch, Office of Management and Budget, New Executive Office Building, Room 10235, Washington, DC 20503.

Dated: May 8, 2002.
Jane M. Harrison,
Director, Division of Policy Review and Coordination.

[FR Doc. 02-12258 Filed 5-15-02; 8:45 am]

BILLING CODE 4165-15-P